DEPARTMENT OF TRANSPORTATION

National Highway Traffic Safety Administration

49 CFR Part 571

[DOT Docket No. NHTSA-2005-22242]

RIN 2127-AJ57

Federal Motor Vehicle Safety Standards; Cargo Carrying Capacity

AGENCY: National Highway Traffic Safety Administration (NHTSA), DOT.

ACTION: Extension of comment period for a notice of proposed rulemaking (NPRM).

SUMMARY: This document extends the comment period on a notice of proposed rulemaking (NPRM) published on August 31, 2005 (70 FR 51707) that addresses motor home and travel trailer overloading by proposing to amend the Federal motor vehicle safety standard (FMVSS) on tire selection and rims for motor vehicles other than passenger cars. We also proposed a related amendment to our safety standard for tire selection and rims for light vehicles. The comment due date was October 31, 2005.

In a submission dated October 14, 2005, a coalition of trade associations representing vehicle manufacturers and dealers asked NHTSA for an extension of this due date. This document grants that request and extends the comment due date for the NPRM to November 30, 2005.

DATES: The due date for comments on DOT Docket No. NHTSA-2005-22242 is extended to November 30, 2005.

ADDRESSES: You may submit your comments in writing to: Docket Management, Room PL-401, 400 Seventh Street, SW., Washington, DC, 20590. Alternatively, you may submit your comments electronically by logging onto the Docket Management System Web site at http://dms.dot.gov. Click on “Help & Information” or “Help/Info” to view instructions for filing your comments electronically. Regardless of how you submit your comments, you should mention the docket number of this document.

You may call the Docket at 202-366-9324. You may visit the Docket from 10 a.m. to 5 p.m., Monday through Friday, except for Federal holidays.

FOR FURTHER INFORMATION CONTACT: For non-legal issues, you may call Mr. William D. Evans, Office of Crash Avoidance Standards at (202) 366-2272. His FAX number is (202) 366-7002.

For legal issues, you may call Ms. Dorothy Nakama, Office of the Chief Counsel at (202) 366-2992. Her FAX number is (202) 366-3820.

You may send mail to both of these officials at National Highway Traffic Safety Administration, 400 Seventh St., SW., Washington, DC 20590.

SUPPLEMENTARY INFORMATION: On August 31, 2005 (70 FR 51707), NHTSA published a notice of proposed rulemaking to amend Federal Motor Vehicle Safety Standards Nos. 120 Tire selection and rims for motor vehicles other than passenger cars, and 110, Tire selection and rims. We proposed to require manufacturers of motor homes and travel trailers over 4,536 kilograms (10,000 pounds) GVWR to provide information to consumers in a label that is intended to inform the consumer about the vehicle's cargo carrying capacity (CCC). This information would be helpful both at the time the consumer is making a purchase decision and also as the consumer uses his or her vehicle. We also proposed to require that the size of tires on the same motor homes and travel trailers be the same as the size of the tires listed on the tire information label required by FMVSS No. 120.

We proposed to limit our CCC label to motor homes and travel trailers with a GVWR greater than 4,536 kilograms (10,000 pounds) as these are the vehicles that have large open interior areas that consumers fill with cargo. We noted that Recreational vehicles (RV) with GVWRs equal to or less than 4,536 kilograms (10,000 pounds) will be required to have less detailed CCC information as a result of an amendment to FMVSS No. 110, which took effect on September 1, 2005. It should be noted that on September 1, 2005, FMVSS No. 120 was changed to apply to vehicles with a GVWR greater than 4,536 kilograms (10,000 pounds) and FMVSS No. 110 was changed to apply to vehicles with a GVWR equal to or less than 4,536 kilograms (10,000 pounds).

It is our belief that the proposed rule complements the efforts of the recreational vehicle industry to provide consumers with information in order to help reduce overloading in motor homes and travel trailers.

In addition, we stated our belief that the proposed rule would provide regulatory relief for dealers from a labeling requirement in FMVSS No. 110. The standard's requirement may currently require dealers that add even small amounts of weight to re-label the vehicles. Under the proposed amendment, dealers that add weight in excess of 0.5 percent of the vehicles' gross vehicle weight ratings would be required to disclose this extra weight on labels affixed to the vehicles. Dealers could add lesser amounts of weight without needing to change or add labels.

The NPRM announced a comment due date of October 31, 2005.

In a joint letter dated October 14, 2005, the National Truck and Equipment Dealers Association, the National Automobile Dealers Association, the National Association of Trailer Manufacturers, the National Marine Manufacturers Association, the Recreational Vehicle Dealers Association, the Tire Industries Association, the Service Station Dealers of America and Allied Trades, the Specialty Equipment Market Association, the National Trailer Dealers Association, the Automotive Service Association, and the Automotive Aftermarket Industry Association asked for an extension of time to comment on the NPRM. The stated rationale was that additional time was necessary “to allow for appropriate, well-reasoned comments addressing an array of practical technical issues associated with the cargo carrying capacity proposal.”

After considering the rationale explaining the need for extra time to consider the NPRM as well as that these groups are primarily small businesses and the parties most directly affected by the proposal, NHTSA has decided that it is in the public interest to grant the submitters' request. Therefore, NHTSA grants until November 30, 2005, submission of public comments on the NPRM of August 31, 2005.

Authority: 49 U.S.C. 322, 30111, 30115, 30117, and 30166; delegation of authority at 49 CFR 1.50.

Issued on: October 24, 2005.
Stephen R. Kratzke,
Associate Administrator for Rulemaking.

[FR Doc. 05-21500 Filed 10-27-05; 8:45 am]

BILLING CODE 4910-59-P